SOCIAL SECURITY ADMINISTRATION

[Docket No: SSA-2023-0031]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

Submit your comments online referencing Docket ID Number [SSA-2023-0031].

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAMain, referencing Docket ID Number [SSA-2023-0031].

I. The information collection below is pending at SSA. SSA will submit it to OMB within 60 days from the date of this notice. To be sure we consider your comments, we must receive them no later than October 16, 2023. Individuals can obtain copies of the collection instruments by writing to the above email address.

Application for a Social Security Number (SSN) Card, the Social Security Number Application Process (SSNAP), and Internet SSN Replacement Card (iSSNRC) Application—20 CFR 422.103—422.110—0960-0066. SSA collects information on the SS-5 (used in the United States) and SS-5-FS (used outside the United States) to issue original or replacement Social Security cards. SSA also enters the application data into the SSNAP application when issuing a card via telephone or in person. In addition, hospitals collect the same information on SSA's behalf for newborn children through the Enumeration at Birth (EAB) process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. The vast majority of applications for original SSN cards utilize EAB.

In addition, the iSSNRC internet application collects information similar to the paper SS-5 for no-change replacement SSN cards for adult U.S. citizens. The iSSNRC modality allows certain applicants for SSN replacement cards to complete the internet application and submit the required evidence online rather than completing a paper Form SS-5.

Finally, oSSNAP collects information similar to that which we collect on the paper SS-5 for no change situations, with the exception of name change, new or replacement SSN cards for U.S. Citizens (adult and minor children), and replacement cards only for non-U.S. citizens. oSSNAP allows these applicants for new or replacement SSN cards to start the application process on-line, receive a list of evidentiary documents, and then submit the application data to SSA for further processing by SSA employees. Applicants then visit a local SSA office to complete the application process.

In some instances, SSA collects race and ethnicity information as part of the SSN card application process. Response to the race and ethnicity questions is voluntary. SSA plans to expand the EAB process to include SSA receipt of race and ethnicity information for the newborn and parent(s) when the parent(s) consent to release of this voluntary information. Obtaining parental consent for this new data will require States and Jurisdictions to add questions to collect a newborn's race and ethnicity information. This will also require BVS to electronically share the race and ethnicity of parent(s) and newborn, for instances when the record shows the state or jurisdiction obtained parental consent, consistent with the EAB process. The respondents for this information collection are applicants for original and replacement Social Security cards, or individuals who wish to change information in their SSN records, who use any of the modalities described above.

Type of Request: Revision of an OMB-approved information collection.

Application scenario | Number of respondents | Frequency of response | Average burden per response (minutes) | Estimated total annual burden (hours) | Average theoretical hourly cost amount (dollars) * | Average wait time in field office (minutes) ** | Total annual opportunity cost (dollars) ***
EAB Modality
Hospital staff who relay the State birth certificate information to the BVS and SSA through the EAB process | 3,759,517 | 1 | 5 | 313,293 | * $24.49 | ** 0 | *** $7,672,546
iSSNRC Modality
Adult U.S. Citizens requesting a replacement card with no changes through the iSSNRC | 3,002,698 | 1 | 5 | 250,225 | * 29.76 | ** 0 | *** 7,447,589
Adult U.S. Citizens requesting a replacement card with a name change through iSSNRC | 1,312 | 1 | 5 | 109 | * 29.76 | ** 0 | *** 3,244
oSSNAP Modality
Adult U.S. Citizens providing information to receive a replacement card through the oSSNAP+ | 822,104 | 1 | 5 | 68,509 | * 29.76 | ** 24 | *** 11,825,136
Adult U.S. Citizens providing information to receive an original card through the oSSNAP+ | 37,323 | 1 | 5 | 3,110 | * 29.76 | ** 24 | *** 536,841
Adult Non-U.S. Citizens providing information to receive an original card through the oSSNAP+ | 204,081 | 1 | 5 | 17,007 | * 29.76 | ** 24 | *** 2,935,497
Adult Non-U.S. Citizens providing information to receive a replacement card through the oSSNAP+ | 84,635 | 1 | 5 | 7,053 | * 29.76 | ** 24 | *** 1,217,392
SSNAP/SS-5 Modality
Respondents who do not have to provide parents' SSNs | 6,973,505 | 1 | 9 | 1,046,026 | * 29.76 | ** 24 | *** 114,142,337
Respondents whom we ask to provide parents' SSNs (when applying for original SSN cards for children under age 12) | 207,521 | 1 | 9 | 31,128 | * 29.76 | ** 24 | *** 3,396,717
Applicants age 12 or older who need to answer additional questions so SSA can determine whether we previously assigned an SSN | 1,113,144 | 1 | 10 | 185,524 | * 29.76 | ** 24 | *** 18,772,072
Applicants asking for a replacement SSN card beyond the allowable limits (i.e., who must provide additional documentation to accompany the application) | 6,703 | 1 | 60 | 6,703 | * 29.76 | ** 24 | *** 279,268
Enumeration Quality Review
Authorization to SSA to obtain personal information cover letter | 500 | 1 | 15 | 125 | * 29.76 | ** 24 | *** 9,672
Authorization to SSA to obtain personal information follow-up cover letter | 500 | 1 | 15 | 125 | * 29.76 | ** 24 | *** 9,672
Grand Total |  |  |  |  |  |  |
Totals | 16,213,543 |  |  | 1,928,937 |  |  | *** 168,247,983
+The number of respondents for this modality is an estimate based on google analytics data for the SS-5 form downloads from SSA.Gov.
* We based this figure on average Hospital Records Clerks (https://www.bls.gov/oes/current/oes292098.htm), and average U.S. worker's hourly wages (https://www.bls.gov/oes/current/oes_nat.htm) as reported by the U.S. Bureau of Labor Statistics.
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

II. SSA submitted the information collection below to OMB for clearance. Your comments regarding this information collection would be most useful if OMB and SSA receive them 30 days from the date of this publication. To be sure we consider your comments, we must receive them no later than September 18, 2023. Individuals can obtain copies of this OMB clearance package by writing to the OR.Reports.Clearance@ssa.gov.

Missing and Discrepant Wage Reports Letter and Questionnaire—26 CFR 31.6051-2—0960-0432. Each year employers report the wage amounts they paid their employees to the Internal Revenue Service (IRS) for tax purposes, and separately to SSA for retirement and disability coverage purposes. Employers should report the same figures to SSA and the IRS; however, each year some of the employer wage reports SSA receives show wage amounts lower than those employers report to the IRS. SSA uses Forms SSA-L93-SM, SSA-L94-SM, SSA-95-SM, and SSA-97-SM to ensure employees receive full credit for their wages. SSA is also creating the online IRS/SSA Reconciliation which is a streamlined version of the SSA-95-SM and the SSA-97-SM. The IRS/SSA Reconciliation will guide employers to the appropriate solutions and will link the users to on-line tools to correct issues. The respondents are employers who reported lower wage amounts to SSA than they reported to the IRS.

Type of Request: Revision of an OMB-approved information collection.

Modality of completion for forms | Number of respondents | Frequency of response | Average burden per response (minutes) | Estimated total annual burden (hours) | Average theoretical hourly cost amount (dollars) * | Total annual opportunity cost (dollars) **
SSA-95-SM and SSA-97-SM (and accompanying cover letters SSA-L93, L94) (paper version) | 356,800 | 1 | 30 | 178,400 | * $29.76 | ** $5,309,184
IRS/SSA Reconciliation (online version) | 89,200 | 1 | 30 | 44,600 | * 29.76 | ** 1,327,296
Totals | 446,000 |  |  | 223,000 |  | 6,636,480
* We based this figure on the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

Dated: August 14, 2023.
Naomi Sipple,
Reports Clearance Officer, Social Security Administration.

[FR Doc. 2023-17727 Filed 8-16-23; 8:45 am]

BILLING CODE 4191-02-P